DEPARTMENT OF HEALTH AND HUMAN SERVICES

Office of Inspector General

Program Exclusions: July 2001

AGENCY: Office of Inspector General, HHS.

ACTION: Notice of program exclusions.

During the month of July 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ANGELO, ROBERT ANTHONY JR | 08/20/2001
CAMP HILL, PA
ANGELO, LILLIAN JAN | 08/20/2001
BLOOMING GROVE, PA
ANSHELL, JACKIE MARLA | 08/20/2001
DANIA BEACH, FL
ASKEW, DIANA JOELL | 08/20/2001
HUGOTON, KS
BATIS, DENNIS LYNN | 08/20/2001
LA MESA, CA
BATTLE, STACY ANN | 08/20/2001
LEAWOOD, KS
BECK, JAMES BRAD | 08/20/2001
HENDERSON, NV
BEDROSIAN, YEPRAM | 08/20/2001
CORONA, CA
BLANKENSHIP, KENNETH JOSEPH | 08/20/2001
LOMPOC, CA
BLANKENSHIP, RUTH CHRISTINE EL | 08/20/2001
SPRING VALLEY, CA
BUFALINO, RUSSELL C | 08/20/2001
CLEARWATER, FL
CHARNETSKI, KATHY | 08/20/2001
BRYAN, TX
CHARNETSKI, STANLEY | 08/20/2001
HUMBLE, TX
CHEN, YUAN FEI | 08/20/2001
DIAMOND BAR, CA
CONE, ALAN C | 08/20/2001
LOMPOC, CA
COOK, CAROL JEAN | 08/20/2001
BLYTHEVILLE, AR
DOLLAR, ZELDER | 08/20/2001
DAVISBORO, GA
ECKERT, RONALD CHARLES | 08/20/2001
OKEMOS, MI
GAINES, KENNETH CHARLES | 08/20/2001
DETROIT, MI
GAZES, SHERI L | 08/20/2001
STERLING, VA
HOWELL, NORMAN | 08/20/2001
BROOKSVILLE, FL
KETSOYAN, TIGRAN | 08/20/2001
PASADENA, CA
KLUDING, CHRISTOPHER SCOTT | 08/20/2001
FORREST CITY, AR
LAKE, QUANTINA SHALANE | 08/20/2001
S BEND, IN
LESLIE, FRED L | 08/20/2001
SEMINOLE, FL
MARTINEZ, TERRY | 08/20/2001
KIRTLAND, NM
MCNULTY, DENISE MARIE | 08/20/2001
CANBY, OR
MILLER, EDWIN R | 08/20/2001
BALTIMORE, MD
MILMAN, BORIS | 08/20/2001
EDISON, NJ
MIRANDA, ARA RODRIGUEZ | 08/20/2001
DANBURY, CT
MKROYAN, DAVIS | 08/20/2001
LOS ANGELES, CA
NEELEY, TERRANCE L | 08/20/2001
OSHKOSH, WI
NEWLANDER-WINSOR, KIMBERLIN | 08/20/2001
ALBUQUERQUE, NM
NUTCRACKER BUSINESS SVCS, INC | 08/20/2001
LA MESA, CA
O'DONNELL, JOHN RAYMOND | 08/20/2001
BROOKLYN, NY
OVSEPYAN, ZARUHI | 08/20/2001
PASADENA, CA
PARKS, JAMES DARRELL | 08/20/2001
DETROIT, MI
PATEL, BIPIN | 08/20/2001
NEW PORT RICHEY, FL
PRINCE, DAWNMARIE | 08/20/2001
WOBURN, MA
RIVERO, CLARA | 08/20/2001
MIAMI, FL
RODRIGUEZ, JOSE | 08/20/2001
MIAMI, FL
ROSEN, NANCY A | 08/20/2001
MCLEAN, VA
RUKSE, JOSEPH M JR | 08/20/2001
MORGANTOWN, WV
SCHWARTZ, JEFFREY | 08/20/2001
ATLANTIC BEACH, NY
SCURA, RICHARD JASON | 08/20/2001
LOS ANGELES, CA
SELBY, JUDITH ANN | 08/20/2001
BEMIDJI, MN
SELBY, TERRY LEE | 08/20/2001
BEMIDJI, MN
SEY, SAVON | 08/20/2001
LOS ANGELES, CA
SHARP, CHRISTOPHER BLAIR | 08/20/2001
AMARILLO, TX
SHUSTERMAN, SIMON | 08/20/2001
OTISVILLE, NY
SMITH, ALICE | 08/20/2001
BRYAN, TX
SORENSON, ROBERT | 08/20/2001
MARCO ISLAND, FL
STEVENS, ANTHONY ELI | 08/20/2001
ORANGEVALE, CA
STEVENS, NICK | 08/20/2001
ORANGEVALE, CA
STRANGE, JEFFREY HAYNES | 08/20/2001
TAFT, CA
TATOIAN, GRIGOR | 08/20/2001
VAN NUYS, CA
THOMAS, DURWARD J | 08/20/2001
NATCHITOCHES, LA
TOMUTA, VASILE | 08/20/2001
PHOENIX, AZ
USSERY, CHARLES E | 08/20/2001
MINDEN, LA
VIVANCO, CARIDAD | 07/19/2001
MIAMI, FL
WALKER, ROBERT RUSSELL | 08/20/2001
TRINIDAD, CO
WESTBANK FAMILY HEALTH CENTER | 08/20/2001
GRETNA, LA
WILKINSON, GARNETT L | 08/20/2001
OTTUMWA, IA
WLOSZEK, MONICA M | 08/20/2001
PARMA, OH
FELONY CONVICTION FOR HEALTH CARE FRAUD
MCKINNEY, OTHA GORDON | 08/20/2001
APPLE VALLEY, CA
SANCHEZ, JORGE GALLARDO | 08/20/2001
DOWNEY, CA
TAYLOR, SABRINA | 08/20/2001
NEWARK, DE
ZARGAR, ABDULAH | 08/20/2001
LOMPOCC, CA
FELONY CONTROL SUBSTANCE CONVICTION
CHAFIN, ANN T | 08/20/2001
GALVESTON, TX
DAIBER, ROBERT RAYMOND | 08/20/2001
WOODVILLE, OH
GARDNER, CHERYL DIANE | 08/20/2001
SAN ANTONIO, TX
HAMZA, MANSOUR MAHMOUD | 08/20/2001
SANTA MONICA, CA
JONES, LINDA GAIL | 08/20/2001
FLORENCE, SC
MOSIER, RANDOLPH D | 08/20/2001
CLEVELAND, OH
PITTS, TINA MARIE | 08/20/2001
COLUMBUS, MS
THAMES, LAURA EVELYN | 08/20/2001
SEYMOUR, TN
VANASSELBERG, SHIRLEY JEAN | 08/20/2001
FAIRBORN, OH
WALKER, FERIEDA A | 08/20/2001
TROTWOOD, OH
PATIENT ABUSE/NEGLECT CONVICTIONS
BEAN, MATILDA | 08/20/2001
PROVIDENCE, RI
BODETTE, DIANE M | 08/20/2001
RUTLAND, VT
BROWN, CARLA MECHELLE | 08/20/2001
ALEXANDRIA, LA
CRUMP, RONALD | 08/20/2001
SOUTHFIELD, MI
DAVIS, EUGENIA MASHELLE | 08/20/2001
SUNSHINE, LA
DEMONTIGNY, JACQUES GENE | 08/20/2001
TUCSON, AZ
DOZIER, LAWANDA | 08/20/2001
HOMER, LA
FITZPATRICK, DEIDRE E | 08/20/2001
BEAR, DE
GIVENS, SHANNON | 08/20/2001
BISHOPVILLE, SC
GREEN, STACEY JENEEN | 08/20/2001
GLENMORA, LA
JOHNSON, NANCY ANN | 08/20/2001
EUGENE, OR
LATZER, SAUL ALLEN | 08/20/2001
SIMI VALLEY, CA
LINEN, CALANDA | 08/20/2001
SUMTER, SC
MCGOWAN, DELPALMIA | 08/20/2001
ST LOUIS, MO
MCGREGOR, CLINTON E | 08/20/2001
JESSUP, MD
MEICH, ANGELIA LOUISE | 08/20/2001
RENO, NV
NEWELL, TERRY | 08/20/2001
PORT ANGELES, WA
ODULIO, JOEL ESQUIVEL | 08/20/2001
COQUITLAM BRITISH,
OTTERBECK, BENJAMIN LEROY | 08/20/2001
SAN DIEGO, CA
PONRARTANA, PRASART | 08/20/2001
SANTA ANA, CA
ROWALD, DAVID A | 08/20/2001
HILLSBORO, IL
SIMS, FRANK | 08/20/2001
GADSDEN, SC
SUMMERVILLE, TRACIE | 08/20/2001
CHESAPEAKE, VA
TRANSMERICA, INC | 08/20/2001
SOUTHFIELD, MI
TRUESDALE, PATRICIA A | 08/20/2001
DINUBA, CA
UMECHURUBA, ALSWELL | 08/20/2001
LANHAM, MD
WANICK, THOMAS | 08/20/2001
JERSEYVILLE, IL
WHITE, JAMAAL R | 08/20/2001
PEORIA, AZ
WOSTER, CAROL | 08/20/2001
COLUMBIA FALLS, MT
CONVICTION FOR HEALTH CARE FRAUD
GREEN, IDLETHA RENEE | 08/20/2001
ALEXANDRIA, LA
CONTROLLED SUBSTANCE CONVICTIONS
HORAN, MICHAEL J | 08/20/2001
ROCKVILLE, MD
LICENSE REVOCATION/SUSPENSION/SURRENDERED
AGEE, SECNA SHANTYE | 08/20/2001
MONTGOMERY, AL
AIVAZIAN, PETER | 08/20/2001
NORTHRIDGE, CA
ALBERT, VIRGINIA LOUISE | 08/20/2001
LEHIGH ACRES, AL
ALLEN, DAVID C | 08/20/2001
CALIFORNIA, MD
ANJOU, ANNETTE MARIE | 08/20/2001
SACRAMENTO, CA
ASTRACHAN, STEVEN BRETT | 08/20/2001
KINGSTON, NY
BAILEY, MARY ANN | 08/20/2001
BRUNEAU, ID
BAZIN, RAPHAEL | 08/20/2001
GREAT NECK, NY
BEDDOO, SARAH | 08/20/2001
BLAIRS, VA
BELL, JAMIE | 08/20/2001
SCOTTSDALE, AZ
BELSON, ERNEST I | 08/20/2001
PEORIA, AZ
BONNER, BROOKE MICHELLE | 08/20/2001
LANETT, AL
BOULTINGHOUSE, REBECCA ANNE | 08/20/2001
LEAGUE CITY, TX
BRINKSNEADER, CHERYL RENEE | 08/20/2001
TELL CITY, IN
BUSH, DONNA R | 08/20/2001
DENVER, CO
BYNE, EDMUND G JR | 08/20/2001
AUGUSTA, GA
BYRD, LORENZA F | 08/20/2001
BRUCE, MS
CAMBE, MELINDA M | 08/20/2001
HOLBROOK, NY
CAMERON, ROBERT ROY | 08/20/2001
VILLA PARK, IL
CARANDA, IOLA G | 08/20/2001
PROVIDENCE, RI
CARTER, ARLENE | 08/20/2001
HENDERSON, NV
CARVER, HOLLI A | 08/20/2001
GREENVILLE, MS
CHOUDRY, MAYNA MEAH | 08/20/2001
CHOWCHILLA, CA
CICERO, BARBARA | 08/20/2001
SOMERVILLE, NJ
COULTER, AUDREY WAUNELL BATTON | 08/20/2001
VIRGINIA BCH, VA
CURTIS, GLADYS E | 08/20/2001
PROVIDENCE, RI
DALEY, ROBERTA | 08/20/2001
PARLIN, NJ
DANYFIELD, EDDIE | 08/20/2001
TUCSON, AZ
DAVIS, TIMOTHY | 08/20/2001
DEER PARK, TX
DAVIS, FAITHE L | 08/20/2001
BOISE, ID
DEWEESE LODGE CAMPUS FOR BOYS | 08/20/2001
CANON CITY, CO
DIEHL, TERI MARIE | 08/20/2001
INDIANAPOLIS, IN
DINITTO, VICKI A | 08/20/2001
DRAPER, VA
DITMORE, CHERYL ELIZABETH | 08/20/2001
FAYETTEVILLE, AR
ELLIOTT, CAROL JEAN | 08/20/2001
GEORGETOWN, IL
ELLIOTT, KIMBERLY | 08/20/2001
N LAS VEGAS, NV
ELLIOTT, DEBBIE | 08/20/2001
WHEAT RIDGE, CO
EVANS, STORMIE SUE | 08/20/2001
INDIANAPOLIS, IN
EVANS, ANNIE RUTH | 08/20/2001
ATHENS, AL
FALZONE, JOSEPH A | 08/20/2001
HOLLAND PATENT, NY
FEIGENBUTZ, PATRICIA A | 08/20/2001
MT LAUREL, NJ
FEINBERG, DEBRA A | 08/20/2001
DOVER, NH
FEINBERG, HARVEY YALE | 08/20/2001
STUDIO CITY, CA
FERGUSON, DWIGHT WARREN | 08/20/2001
LUBBOCK, TX
FISSE, RONALD ARLEN | 08/20/2001
HAILEY, ID
FRANCHETTI, CHARLOTTE MARIE | 08/20/2001
REDDING, CA
FRY, ROY | 08/20/2001
LOS FRESNOS, TX
FRYE, PAULA M | 08/20/2001
CEDAR RAPIDS, IA
FUOROLI, STEPHEN F | 08/20/2001
KINGSTON, RI
GALCIK, DIANE | 08/20/2001
TENAFLY, NJ
GALLAGHER, DENICE KARKALLA | 08/20/2001
PITTSBURGH, PA
GEIGER, KIM A | 08/20/2001
SOUTHINGTON, CT
GETCHEY, AMY MICHELL | 08/20/2001
DOTHAN, AL
GIBBS, LILLIE RUTH | 08/20/2001
JACKSON, MS
GIBSON, THERESA | 08/20/2001
BRANDON, MS
GIOIELLO, JOSEPH N | 08/20/2001
WARREN, OH
GOEDEN, DORA ANN | 08/20/2001
E MOLINE, IL
GOLLADAY, JEFFREY F | 08/20/2001
MEMPHIS, TN
GONG, SAUL MAN | 08/20/2001
BERKELEY, CA
GREENBERG, ALAN S | 08/20/2001
JARRETTSVILLE, MD
GUDYKA, JADE E | 08/20/2001
OAK FOREST, IL
GUEST, BETTY JANE | 08/20/2001
BEAVERTON, MI
GUSOVIUS, TINA R CRAWFORD | 08/20/2001
WINCHESTER, VA
HACKETT, MALORA A | 08/20/2001
N FALMOUTH, MA
HALER, KRISTINA MARIE | 08/20/2001
CONNERSVILLE, IN
HAMILTON, JAMES GREENE | 08/20/2001
DURHAM, NC
HARMON, TRACEY U | 08/20/2001
PAWTUCKET, RI
HARRIS, ALBERT ROBERT | 08/20/2001
TUSKEGEE, AL
HART, JANE DELBAUGH | 08/20/2001
MUNCY VALLEY, PA
HARTZ, CHARLES J | 08/20/2001
MALONE, NY
HEARD, RODNEY ALLAN | 08/20/2001
TROUP, TX
HEDINGTON, LISA LOUCKS | 08/20/2001
PORTLAND, IN
HELSEL, ROBIN L | 08/20/2001
DOYLESTOWN, PA
HERNANDEZ, JOSEPH P | 08/20/2001
MARANA, AZ
HERRERA, PASCUAL | 08/20/2001
GADSDEN, AL
HILL, SARAH MAY | 08/20/2001
RICHMOND, VA
HOLEMAN, DAVID MARK | 08/20/2001
RIVERSIDE, CA
HOLLAND, BILLIE JO G | 08/20/2001
N KINGSTOWN, RI
HOLMES, LYNDA MADDOX | 08/20/2001
GARLAND, TX
HOOVER, BERRIE JOHNSON | 08/20/2001
SPRINGFIELD, VA
HOVIS, PAUL KEITH | 08/20/2001
RESEDA, CA
HOWELL, STEPHANIE LOUISE | 08/20/2001
TEMPLE, TX
HUNTER, JANE M | 08/20/2001
COHOES, NY
HURD, STEVEN MORRIS | 08/20/2001
S SAN FRANCISCO, CA
ICE, STEPHEN LEE | 08/20/2001
ANDERSON, IN
JANFAZA, DELSHAD | 08/20/2001
LA MESA, CA
JOHNSON, SUSAN J | 08/20/2001
HORNELL, NY
JOYCE, CARALINE KAY | 08/20/2001
DALLAS, TX
KARR, STEPHANIE JO | 08/20/2001
MESA, AZ
KEARNS, RUTH ANN | 08/20/2001
KIRKLAND, WA
KRAFT, LINDA FORNEY | 08/20/2001
COLUMBIA, PA
LACK, STEPHEN | 08/20/2001
HOUSTON, TX
LAMPMAN, ELIZABETH LYNN | 08/20/2001
SAN MARCOS, TX
LANAGAN, GERALDINE A | 08/20/2001
MATTAPOISETT, MA
LEAVELL, DENISE | 08/20/2001
DETROIT, MI
LECROY, ROBERT EDWARD | 08/20/2001
FRYEBURG, ME
LEFF, ROBERTA E | 08/20/2001
LARCHMONT, NY
LEVELL, CRYSTAL D | 08/20/2001
NEWARK, NJ
LEVINE, HOWARD J | 08/20/2001
SHERIDAN, OR
LEVISKIA, PATRICIA POWELL | 08/20/2001
GAUTIER, MS
LIEB, KAREN D | 08/20/2001
FLAGSTAFF, AZ
LIN, JANG BOR | 08/20/2001
VISALIA, CA
LOGSDON, ABBIE BEDILION | 08/20/2001
FABER, VA
LONGTIN, JACOB A | 08/20/2001
BENNINGTON, VT
LYNCH, DEBORAH LYNN | 08/20/2001
S BEND, IN
LYONS, DENISE E | 08/20/2001
MIDDLETOWN, RI
MANN, GREGORY BROWN | 08/20/2001
KNOX, IN
MARKS, MICHAEL E | 08/20/2001
MESA, AZ
MARSDEN, SHERRY A | 08/20/2001
CONCORD, NH
MARTIN, MONICA | 08/20/2001
WHITE CASTLE, LA
MASON, SCOTT A | 08/20/2001
TEMPE, AZ
MATHIS, LINDA P | 08/20/2001
TUCSON, AZ
MCCULLOUCH, CHARLES LARRY | 08/20/2001
LOUISVILLE, MS
MCKINNEY, DANA ANN | 08/20/2001
RIENZI, MS
MCNICHOLAS, DIANE L | 08/20/2001
MERRIMACK, NH
MEARS-CLARKE, MAXINE E | 08/20/2001
BRONX, NY
MESSENGER, CRAIG RILEY | 08/20/2001
FOLSOM, CA
MOISTNER, DEBRA SUE | 08/20/2001
CAMBRIDGE CITY, IN
MORSE, DARIAN R | 08/20/2001
PIMA, AZ
MURPHY, BRIAN DAVID | 08/20/2001
JOHNSTON CITY, IL
MURPHY, MICHELE | 08/20/2001
BAYONNE, NJ
NELSON, GERALD EUGENE | 08/20/2001
SOLANA BEACH, CA
NELSON, FRANK J | 08/20/2001
PHILADELPHIA, PA
O'TOOL, FAITH M | 08/20/2001
OMAHA, NE
OROZCO, FIDEL JR | 08/20/2001
PACOIMA, CA
PALMER, BRENT R | 08/20/2001
BALLWIN, MO
PANDHI, HEMANT MANILAL | 08/20/2001
COBLESKILL, NY
PARRISH, KATHARINE LIDELL | 08/20/2001
ST FRANCISVILLE, LA
PATXOT, OMAR FERNANDEZ | 08/20/2001
NEW YORK, NY
PHIPPS, ARLENE | 08/20/2001
JAMAICA, NY
PIGG, JACKIE LAMAR | 08/20/2001
SALEM, AL
PIRILLO, SANDRA BRAGER | 08/20/2001
AVELLA, PA
PITASSI, ELIZABETH M | 08/20/2001
MCKEES ROCK, PA
QUINTANA, DAVID T | 08/20/2001
PHOENIX, AZ
RADEMACHER, DONN PAUL | 08/20/2001
EASTHAM, MA
RAINS, RICHARD | 08/20/2001
NAMPA, ID
READER, LOIS | 08/20/2001
NEWTON, NJ
REILLY, KATHLEEN | 08/20/2001
NEWPORT, KY
ROBERTS, PHILLIP D | 08/20/2001
HATTIESBURG, MS
ROBERTSON, PAUL E | 08/20/2001
CHICAGO, IL
ROBINSON, KENNETH ELLIS | 08/20/2001
AMERICUS, GA
ROSENCRANS-JENSEN, VICTORIA MA | 08/20/2001
COCOA, FL
RUSSELL, INGRID HEATHER | 08/20/2001
MINERAL WELLS, TX
SCHLOTZHAUER, KAREN ANNE | 08/20/2001
EUREKA, CA
SCHULTHIES, ALLISON L | 08/20/2001
TOOELE, UT
SHAUGHNESSY, CYNTHIA FOX | 08/20/2001
HEADLAND, AL
SHOEMAKER, MELANIE | 08/20/2001
OCEAN SPRINGS, MS
SILVEIRA, ANNA M | 08/20/2001
PROVIDENCE, RI
SMITH, ANGELA SUZANNE GLOVER | 08/20/2001
HEADLAND, AL
SMITH, CYNTHIA ALLEN | 08/20/2001
SALEM, AL
SMITH, ELAINE KATHLEEN | 08/20/2001
HOPKINTON, NY
SOUSA, DEBRA A | 08/20/2001
BRISTOL, RI
SPARMAN, ALFRED E | 08/20/2001
MCMINNVILLE, TN
SPENCER, BARBARA KAY | 08/20/2001
EL PASO, TX
SPIERS, VICKI HAWN | 08/20/2001
HATTIESBURG, MS
STARK, ROXANE | 08/20/2001
LONGVIEW, TX
STAUER, JANICE ANN | 08/20/2001
HEALDBURG, CA
STEELE, BARBARA | 08/20/2001
BEAUMONT, MS
STEPHENSON, SALLY ANNE | 08/20/2001
DALLAS, TX
STEWART, SCOTT THOMAS | 08/20/2001
GAHANNA, OH
STRAWN, DIANE LEE | 08/20/2001
LA MIRADA, CA
STROUSE, KIM ELIZABETH | 08/20/2001
GRAND RAPIDS, MI
SULLIVAN, SHARON KAY | 08/20/2001
RED BLUFF, CA
SZITO, ELSA SHANNON | 08/20/2001
KNOXVILLE, TN
TEXIERA, PATRICIA A | 08/20/2001
LOWELL, MA
THOMPSON, DANIEL LEE | 08/20/2001
COLUMBUS, OH
TINGHITELLA, WILLIAM | 08/20/2001
LAS VEGAS, NV
TOUTAIN, DOLORES C | 08/20/2001
WARWICK, RI
TRUMAN, CYNTHIA SUE | 08/20/2001
CYPRESS, CA
TYMOCHKO, YOURA | 08/20/2001
WARREN, OH
TYUS, CATHY LYNN | 08/20/2001
BESSEMER, AL
VAUGHN, TERRY | 08/20/2001
JACKSON, MS
VESEY, KIMBERLY SUE | 08/20/2001
ROACHDALE, IN
WALTER, STEVEN WAYNE | 08/20/2001
LEWISBURG, WV
WANG, BAI SHAN | 08/20/2001
ROSEMEAD, CA
WATTS, ELIZABETH M | 08/20/2001
YOUNGTOWN, AZ
WEATHERBEE, CAROL E | 08/20/2001
SPRINGFIELD, MA
WEBER, GLENN ALLAN | 08/20/2001
CARMICHAEL, CA
WELBAUM, SCOTT L | 08/20/2001
TUCSON, AZ
WELCH, JULIE H | 08/20/2001
RENO, NV
WELLINGHAM, PAMELA GAIL | 08/20/2001
GADSDEN, AL
WHITE, JUDY C RODGERS | 08/20/2001
LOUISVILLE, MS
WILLINGHAM, ANGELA | 08/20/2001
LINCOLN, AL
WILMOTH, KEITH L | 08/20/2001
SALINAS, CA
WONG, DANNY KIN MING | 08/20/2001
LOS ANGELES, CA
WOODS-ANDERSON, VICTORIA LOCHI | 08/20/2001
MOBILE, AL
WORKMAN, CYNDI JOANN | 08/20/2001
BRAZIL, IN
YAEGER, HOPE W | 08/20/2001
ALLENTOWN, PA
YARBROUGH, KELLY ANN | 08/20/2001
MABANK, TX
YOUNG, SANDRA KAY | 08/20/2001
STAUNTON, IL
ZOLLI, GINA TERESA | 08/20/2001
MOLINE, IL
FEDERAL/STATE EXCLUSION/SUSPENSION
NINOS, DIANE E | 08/20/2001
PATERSON, NJ
SANTANA, SONIA E | 08/20/2001
PATERSON, NJ
FRAUD/KICKBACKS
AMITAN HEALTH SERVICES OF DADE | 11/15/1999
MIAMI, FL
DONALDSON, JAMES FRED | 04/11/2001
BERRIEN SPRNGS, MI
HEARD, ROGER | 08/20/2001
FERRIDAY, LA
HERNLY, JAMES D | 04/17/2001
RICHMOND, IN
JOSE MARTI HOME HEALTH, INC | 11/15/1999
MIAMI, FL
KADIWALA, MOHAMMED YUSUF | 06/18/2001
NEW PORT RICHEY, FL
MCKINNEY, CAROLYN JOYCE WATSON | 04/19/2001
BRYAN, TX
OLIVET COMPREHENSIVE HUMAN SVC | 04/11/2001
BERRIEN SPRNGS, MI
ROCHLIN, JEROME | 03/22/2001
PHOENIX, AZ
OWNED/CONTROLLED BY CONVICTED EXCLUDED
A SMARTDOC MEDICAL TRANSCRIP | 08/20/2001
TAMPA, FL
ALDINE BENDER CHIROPRACTIC | 07/13/2001
HOUSTON, TX
ALTERNATIVE CHIROPRACTIC & | 08/20/2001
BEAUMONT, TX
BAILEY CHIROPRACTIC | 08/20/2001
HANFORD, CA
BETTER BODIES, INC | 08/20/2001
WHITTIER, CA
ECOMED LABS | 08/20/2001
ATLANTA, GA
EL MILAGRO MEDICAL CENTER | 08/20/2001
MIAMI, FL
EXCELLENT NURSING CARE, INC | 08/20/2001
MIAMI, FL
FAIR OAKS NECK & BACK CLINIC | 08/20/2001
FAIR OAKS, CA
GEOCLAURI MOBILE DIANOSTIC SVC | 08/20/2001
MIAMI, FL
GOLDEN FOOT CLINIC, P C | 08/20/2001
DETROIT, MI
JSH HOME HEALTH CARE, INC | 08/20/2001
MIAMI, FL
MIDWEST CHIROPRACTIC & PHYSIO | 08/20/2001
PARMA, OH
MUTUAL HOME HEALTH NURSING | 08/20/2001
MIAMI LAKES, FL
NURSING SERVICES, INC | 08/20/2001
MIAMI, FL
PEMBROKE MEDICAL LAB, INC | 08/20/2001
PEMBROKE PINES, FL
PERFECT NURSING HOME HEALTH | 08/20/2001
MIAMI, FL
RICKEY G PERRY, D D S, P A | 08/20/2001
LITTLE ROCK, AR
STACY A BATTLE, D D S, P C | 08/20/2001
KANSAS CITY, MO
STRAIGHT CHIROPRACTIC | 08/20/2001
SANTA ANA, CA
TIMOTHY G FLYNN, D C | 08/20/2001
KENT, WA
UNIVERSAL NURSING SYSTEMS INC | 08/20/2001
MIAMI LAKES, FL
DEFAULT ON HEALTH LOAN
ALLEN, ROBERT W | 08/20/2001
KANSAS CITY, KS
ALTER, DALE N | 08/20/2001
S BEACH, OR
APPLING, JON SCOTT | 08/20/2001
REIDSVILLE, NC
ATRVASH-BYRD, CAROLYN | 08/20/2001
ARLINGTON, TX
BEIRNE, MARK J | 08/20/2001
NORCROSS, GA
BENOIT-SPENCE, SUZANNE ELIZABE | 08/20/2001
LAKESIDE, CA
BOWEN, CECIL D JR | 08/20/2001
BLYTHE, CA
CASELLI, GINA GLORIA | 08/20/2001
PHILADELPHIA, PA
CONNOR, KENNETH J | 08/20/2001
NEWPORT BEACH, CA
DODIA, VISHAL H | 08/20/2001
NEW YORK, NY
FAWZI, NAYEL A | 08/20/2001
HOUSTON, TX
FAYAZFAR, MITRA | 08/20/2001
AGOURA HILL, CA
GENIS, OLEG | 08/20/2001
RICHBORO, PA
GORMAN, DANIEL J | 08/20/2001
SCOTTSDALE, AZ
GOTTSCHLING, CARL F | 08/20/2001
CLEVELAND, OH
HARDEN, GERALD ANTHONY | 08/20/2001
OLNEY, MD
HATCH, JUDITH LOUISE | 08/20/2001
SILVER SPRING, MD
HINOJOSA, LIZZE ANEL | 08/20/2001
CORPUS CHRISTI, TX
HOCHBERG, MICHAEL R | 08/20/2001
CORAL SPRINGS, FL
HOFFMAN, ROBERT LLOYD II | 08/20/2001
NEW YORK, NY
JENKINS, JULIAN E | 08/20/2001
NORTH WALES, PA
MASON, RICHARD G | 08/20/2001
PINCKNEY, MI
MASSAQUOI, ALLIEU B | 08/20/2001
BOSTON, MA
MATTSON, JAMES A | 08/20/2001
BERKELEY, CA
MCANALLEN, CURTIS M | 08/20/2001
WESTERVILLE, OH
MERRITT, PAMELA JEAN | 08/20/2001
ROANOKE, VA
MILES, LORETTA T | 08/20/2001
BETHLEHEM, PA
MILICH-BUNIN, ALANA | 08/20/2001
BOYNTON BEACH, FL
MORREALE, ANGELO PAUL | 08/20/2001
NATCHITOCHES, LA
NAVARRO-KEMP, ANTONETTE MARIE | 08/20/2001
BURBANK, CA
OLSEN, JEFFREY D | 08/20/2001
IRVINE, CA
OWEN, MARK ALLEN | 08/20/2001
DUBACH, LA
PAISO, ADAM C | 08/20/2001
LIVERMORE, CA
PANEBIANCO, ANTHONY G | 08/20/2001
REDDING, CA
PARKINSON, ROBERT B | 08/20/2001
RIALTO, CA
PIERRI, ZIRZA A | 08/20/2001
PORT WASHINGTON, NY
REASON, RICHARD E II | 08/20/2001
WOODLAND PARK, CO

Dated: August 10, 2001.
Kathi Petronski,
Director, Health Care Administrative Sanctions, Office of Inspector General.

[FR Doc. 01-21173 Filed 8-22-01; 8:45 am]

BILLING CODE 4150-04-P